ENVIRONMENTAL PROTECTION AGENCY

[OPP-34165C; FRL-6817-3]

Disulfoton and Naled Receipt of Requests for Voluntary Cancellation of Products and Uses

AGENCY: Environmental Protection Agency (EPA).

ACTION: Notice.

SUMMARY: In accordance with section 6(f)(1)(A) of the Federal Insecticide, Fungicide, and Rodenticide Act (FIFRA), as amended, EPA is issuing a notice of receipt of requests from the registrants Bayer Corporation; Value Garden Supply, LLC; and Sergeant's Pet Products, Inc. to cancel some products and/or delete uses for products containing disulfoton, [O,O-diethyl S-(2-(ethylthio)ethyl) phosphorodithioate]; and naled, [1,2-dibromo-2,2-dichloro-ethyl dimethyl phosphate]. EPA received these requests for voluntary cancellation and use deletion in response to future reregistration eligibility decisions for these individual pesticides.

DATES: Comments on the requested registration cancellations and use deletions must be submitted to the address provided below and identified by docket control number OPP-34165C. Comments must be received on or before February 11, 2002.

ADDRESSES: Comments may be submitted by mail, electronically, or in person. Please follow the detailed instructions for each method as provided under SUPPLEMENTARY INFORMATION. To ensure proper receipt by EPA, you must identify docket control number OPP-34165C in the subject line on the first page of your response.

FOR FURTHER INFORMATION CONTACT: For information concerning disulfoton contact: Christina Scheltema, Special Review and Reregistration Division (7508C), Office of Pesticide Programs, Environmental Protection Agency, 1200 Pennsylvania Ave., NW., Washington, DC 20460, telephone number: (703) 308-2201; fax number: (703) 308-8041; e-mail address: scheltema.christina@epa.gov.

For information concerning naled contact: Tom Myers, Special Review and Reregistration Division (7508C), Office of Pesticide Programs, Environmental Protection Agency, 1200 Pennsylvania Ave., NW., Washington, DC 20460, telephone number: (703) 308-8589; fax number: (703) 308-8041; e-mail address: myers.tom@epa.gov.

SUPPLEMENTARY INFORMATION: This announcement consists of three parts. The first part contains general information. The second part addresses the registrants' requests for registration cancellations and amendments to delete uses. The third part proposes existing stock provisions that will be set forth in the cancellation order the Agency intends to issue at the close of the comment period for this announcement, absent adverse comments.

I. General Information

A. Does this Action Apply to Me?

This action is directed to the public in general. You may be potentially affected by this action if you manufacture, sell, distribute or use disulfoton or naled products. The Congressional Review Act, 5 U.S.C. 801 et seq., as added by the Small Business Regulatory Enforcement Fairness Act of 1996, does not apply because this action is not a rule, for purposes of 5 U.S.C. 804(3). Since other entities may also be interested, the Agency has not attempted to describe all the specific entities that may be affected by this action. If you have any questions regarding the applicability of this action to a particular entity, consult the person or persons listed under FOR FURTHER INFORMATION CONTACT.

B. How Can I Obtain Additional Information, Including Copies of this Document and Other Related Documents?

1. Electronically. You may obtain electronic copies of this document, and certain other related documents that might be available electronically, from the EPA Internet Home Page select “Laws and Regulations,” “Regulations and Proposed Rules,” and then look up the entry for this document under the Federal Register—Environmental Documents.” You can also go directly to the Federal Register listing at http://www.epa.gov/fedrgstr/.

2. In person. The Agency has established an official record for this action under docket control number OPP-34165C. The official record consists of the documents specifically referenced in this action, any public comments received during an applicable comment period, and other information related to this action, including any information claimed as Confidential Business Information (CBI). This official record includes the documents that are physically located in the docket, as well as the documents that are referenced in those documents. The public version of the official record does not include any information claimed as CBI. The public version of the official record, which includes printed, paper versions of any electronic comments submitted during an applicable comment period, is available for inspection in the Public Information and Record Integrity Branch (PIRIB), Rm. 119, Crystal Mall #2, 1921 Jefferson Davis Hwy., Arlington, VA, from 8:30 a.m. to 4 p.m., Monday through Friday, excluding legal holidays. The PIRIB telephone number is (703) 305-5805.

C. How and When Do I Submit Comments?

You may submit comments through the mail, in person, or electronically. To ensure proper receipt by EPA, it is imperative that you identify a docket control number OPP-34165C in the subject line on the first page of your response.

1. By mail. Submit your comments to: Public Information and Records Integrity Branch (PIRIB), Information Resources and Services Division (7502C), Office of Pesticide Programs (OPP), U.S. Environmental Protection Agency, 1200 Pennsylvania Ave., NW., Washington, DC 20460.

2. In person or by courier. Deliver your comments to: Public Information and Records Integrity Branch (PIRIB), Information Resources and Services Division (7502C), Office of Pesticide Programs (OPP), U.S. Environmental Protection Agency, Rm. 119, Crystal Mall #2, 1921 Jefferson Davis Hwy., Arlington, VA. The PIRIB is open from 8:30 a.m. to 4 p.m., Monday through Friday, excluding legal holidays. The PIRIB telephone number is (703) 305-5805.

3. Electronically. You may submit your comments electronically by e-mail to: opp-docket@epa.gov, or you can submit a computer disk as described above. Do not submit any information electronically that you consider to be CBI. Avoid the use of special characters and any form of encryption. Electronic submissions will be accepted in WordPerfect 6.1/8.0 or ASCII file format. All comments in electronic form must be identified by docket control number OPP-34165C. Electronic comments may also be filed online at many Federal Depository Libraries.

D. How Should I Handle CBI that I Want to Submit to the Agency?

Do not submit any information electronically that you consider to be CBI. You may claim information that you submit to EPA in response to this document as CBI by marking any part or all of the information as CBI. Information so marked will not be disclosed except in accordance with procedures set forth in 40 CFR part 2. In addition to one complete version of the comment that includes any information claimed as CBI, a copy of the comment that does not contain the information claimed as CBI must be submitted for inclusion in the public version of the official record. Information not marked confidential will be included in the public version of the official record without prior notice. If you have any questions about CBI or the procedures for claiming CBI, please consult the person listed under FOR FURTHER INFORMATION CONTACT.

E. What Should I Consider as I Prepare My Comments for EPA?

You may find the following suggestions helpful for preparing your comments:

1. Explain your views as clearly as possible.

2. Describe any assumptions that you used.

3. Provide copies of any technical information and/or data you used that support your views.

4. If you estimate potential burden or costs, explain how you arrived at the estimate that you provide.

5. Provide specific examples to illustrate your concerns.

6. Offer alternative ways to improve the notice or collection activity.

7. Make sure to submit your comments by the deadline in this notice.

8. To ensure proper receipt by EPA, be sure to identify the docket control number assigned to this action in the subject line on the first page of your response. You may also provide the name, date, and Federal Register citation.

II. Receipt of Requests to Cancel and Amend Registrations to Delete Uses.

A. Background

EPA is publishing a single notice in response to registrants' requests to cancel products and/or delete product uses for disulfoton and naled from their labels. (See the table below for specific information regarding the cancellation or deletion requests).

Registration Eligibility Decision (RED) documents summarize the findings of EPA's reregistration process for individual chemical cases, and reflect the Agency's decisions on risk assessment and risk management for uses of individual pesticides. Naled and disulfoton belong to a group of pesticides known collectively as organophosphates (OPs). EPA will issue Interim Reregistration Eligibility Decisions assessing the risks of exposure from individual organophosphates in the near future. EPA will also consider the cumulative risks from all organophosphates, as they all share a common mechanism of toxicity affecting the nervous system by inhibiting cholinesterase.

Disulfoton is an insecticide first registered in 1961, to control a variety of pests affecting domestic indoor and outdoor potted plants and ornamentals, including herbaceous plants, flowers, woody shrubs and trees. Naled is an insecticide and acaricide first registered in the United States in 1959, primarily used to control mosquitos (70% of its use). As part of the reregistration process, Value Garden Supply, LLC and Bayer Corporation have elected to voluntarily cancel certain products and/or delete product uses from their product labels rather than develop the data necessary to support reregistration. Sergeant's Pet Products has requested voluntary cancellation of certain end-use product registrations.

EPA will consider any comments received within 30 days of publication of this notice in the Federal Register prior to cancelling affected uses.

B. Requests for Voluntary Amendments to Delete Uses From the Registrations of End-Use and Technical Product Labels

Pursuant to section 6(f)(1)(A) of FIFRA, the following companies have submitted a request to amend some of their technical and/or end-use registrations of pesticide products containing disulfoton and naled, deleting the listed product(s) bearing such use. The registrations, for which amendments to delete products and/or uses were requested, are identified in the following table:

Notice for Voluntary Cancellation of Registered Uses
Chemical | PC Code | Company Address | Nature of Action | Products Affected (EPA Reg. #) | Uses Deleted
Disulfoton | 032501 | Bayer Corporation 8400 Hawthorn Road P.O. Box 4913 Kansas City, MO 64120-0013 | Use deletions | Di-Syston Technical (3125-183) Di-Syston 68% Con- centrate (3125-158) Di-Syston 15% (3125-172) Di-Syston 8 (3125-307) | Dry beans, peas and lentils, poplars grown for pulpwood, sorghum, soy- beans, tobacco, triticale
Disulfoton | 032501 | Value Garden Supply, LLC Rt. 2 Box 956 New Castle, VA 24127 | Product cancellations | Rigo Insyst-D (70-236) Pratt Noculate Systemic Insecticide Granule (769-850)
Naled | 034401 | Sergeant's Pet Products, Inc. P.O. Box 18993 Memphis, TN 3818 | Product cancellations | Sergeant's Sentry IV Flea and Tick Collar for Dogs (2517-43) Sergeant's Sentry IV for Cats (2517-44) Sergeant's Sentry V Flea and Tick Collar for Dogs (2517-45) Sergeant's Sentry V Tick Collar for Cats (2517-46) |

Under section 6(f)(1)(A) of FIFRA, registrants may request, at any time, that their pesticide registrations be amended to delete one or more pesticide uses or request a voluntary cancellation of a product registration. The aforementioned companies have requested to amend their registrations and that EPA waive any applicable 180-day comment period that applies to cancellation and/or deletion of minor agricultural uses. In light of this request, EPA is granting the request to waive the 180-day comment period and is providing a 30-day public comment period before taking action on the requested amendments to delete uses or cancel product registrations. EPA intends to grant the requested amendments to delete uses or cancel product registrations at the close of the comment period for this announcement.

III. Proposed Existing Stocks Provisions

The registrants have requested voluntary cancellation for the disulfoton and naled registrations identified in the table. EPA intends to grant the requests for voluntary cancellations and use deletions. For purposes of the cancellation order that the Agency intends to issue at the close of the comment period for this announcement, the term “existing stocks” will be defined, as prescribed in the Federal Register of June 26, 1991 (56 FR 29362) (FRL-3846-4), as those stocks of a registered pesticide product which are currently used in the United States and which have been packaged, labeled, and released for shipment prior to the effective date of the cancellation or amendment. For disulfoton products, EPA intends to permit registrants of these products to distribute and sell existing stocks of cancelled products or products bearing deleted uses for 12 months from the effective date of cancellation. In the case of naled, the registrant has requested the effective date of cancellation to be March 1, 2002, as well as a provision for the sale or distribution of existing stocks until December 31, 2002. EPA intends to grant this request. The Agency also intends to permit all persons other than the registrant to sell, distribute, or use disulfoton or naled products until supplies are exhausted. Any distribution, sale, or use of existing stocks that is not consistent with the terms of that order will be considered a violation of section 12(a)(2)(K) and/or 12(a)(1)(A) of FIFRA.

List of Subjects

Environmental protection, disulfoton, naled, use terminations/deletions, administrative practice and procedure, agricultural commodities, pesticides and pests.

Dated: January 2, 2002.
Lois A. Rossi,
Director, Special Review and Reregistration Division, Office of Pesticide Programs.

[FR Doc. 02-629 Filed 1-9-02; 8:45 am]

BILLING CODE 6560-50-S